DEPARTMENT OF DEFENSE

Office of the Secretary

[Transmittal No. 23-0A]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(5)(C) arms sales notification is published to fulfill the requirements of section 155 of Public Law 104-164 dated July 21, 1996. The following is a copy of a letter to the Speaker of the House of Representatives with attached Transmittal 23-0A.

Dated: August 16, 2024.
Aaron T. Siegel,
Alternate OSD Federal Register Liaison Officer, Department of Defense.

BILLING CODE 6001-FR-P

BILLING CODE 6001-FR-C

Transmittal No. 23-0A

REPORT OF ENHANCEMENT OR UPGRADE OF SENSITIVITY OF TECHNOLOGY OR CAPABILITY (SEC. 36(B)(5)(C)), (AECA)

(i) Purchaser: Government of Spain

(ii) Sec. 36(b)(1), AECA Transmittal No.: 17-65

Date: April 4, 2018

Implementing Agency: Army

Funding Source: National Funds

(iii) Description: On April 4, 2018, Congress was notified by Congressional certification transmittal number 17-65, of the possible sale, under Section 36(b)(1) of the Arms Export Control Act, of seventeen (17) CH-47F cargo helicopters with customer-unique modifications, twenty-one (21) Common Missile Warning System (CMWS) AN/AAR-57A(V)8, and forty-two (42) Embedded Global Positioning System (GPS) Inertial Navigation System (INS) (EGI). Also included were mission equipment, hardware and services required to implement customer-unique modifications, communication, Aircraft Survivability Equipment (ASE), and navigation equipment including AN/ARC-231 Multi-mode radios, AN/ARC-201D SINCGARS radios, AN/ARC-220 High Frequency (HF) Radio, Identification, Friend or Foe (IFF), AN/AAR-57A(V)8, and the Radar Signal Detecting Set (RSDS), AN/APR-39A(V)1, special tools and test equipment, ground support equipment, airframe and engine spare parts, technical data, publications, MWO/ECPs, technical assistance, transportation of aircraft and training, and other related elements of logistics and program support. The estimated total case value was $1.3 billion. Major Defense Equipment (MDE) constituted $900 million of this total.

This transmittal notifies the addition of the following MDE items:

—One (1) CH-47F Cargo Helicopter with customer-unique modifications;

—Two (2) Common Missile Warning Systems (CMWS) AN/AAR-57A(V)8

—Two (2) Embedded Global Positioning System (GPS) Inertial Navigation Systems (INS) (EGI)

Also included are equipment and services to support the new CH-47F cargo helicopter, as well as support the upgrade/remanufacturing of the previously notified, seventeen (17) cargo helicopters from CH-47D to CH-47F configuration, to include: mission equipment, hardware and services required to implement customer-unique modifications; communications equipment: Aircraft Survivability Equipment (ASE) and navigation equipment including: AN/ARC-231 Multi-mode radios, AN/ARC-201D SINCGARS radios, AN/ARC-220 High Frequency (HF) radios, Identification Friend or Foe (IFF), AN/AAR-57A(V)8, and the Radar Signal Detecting Set (RSDS); AN/APR-39A(V)1; special tools and test equipment; ground support equipment; airframe and engine spare parts; technical data; publications; Modification Work Order/Engineering Change Proposals (MWO/ECP); technical assistance, transportation of aircraft and training; and other related elements of logistics and program support. The estimated total value of the new items is $91.3 million, but will not cause an increase in the total estimated program cost. The total estimated case value will remain $1.3 billion with MDE remaining $900 million of this total.

(iv) Significance: This notification is being provided as the additional MDE items were not enumerated in the original notification. The proposed sale will support Spain's capability to strengthen its homeland defense and deter regional threats. This additional aircraft will also enhance Spain's commitment and contribution to NATO in providing a Combat Aviation Brigade.

(v) Justification: This proposed sale will support the foreign policy and national security of the United States by improving the security of a NATO ally which is an important force for political stability and economic progress in Europe. It is vital to the U.S. national interest to assist Spain in developing and maintaining a strong and ready self-defense capability.

(vi) Sensitivity of Technology: The statement contained in the original AECA 36(b)(1) transmittal applies to the MDE items reported here.

(vii) Date Report Delivered to Congress: January 25, 2023

[FR Doc. 2024-19124 Filed 8-23-24; 8:45 am]

BILLING CODE 6001-FR-P